DEPARTMENT OF DEFENSE

Defense Acquisition Regulations System

[Docket DARS-2017-0008; OMB Control Number 0704-0497]

Information Collection Requirement; Defense Federal Acquisition Regulation Supplement; Part 215 Negotiation; Submission for OMB Review; Comment Request

AGENCY: Defense Acquisition Regulations System, Department of Defense (DoD).

ACTION: Notice.

SUMMARY: The Defense Acquisition Regulations System has submitted to OMB for clearance, the following proposed revision and extension of a collection of information under the provisions of the Paperwork Reduction Act.

DATES: Consideration will be given to all comments received by December 28, 2020.

FOR FURTHER INFORMATION CONTACT: Ms. Heather Kitchens, 571-372-6104.

SUPPLEMENTARY INFORMATION:

Title and OMB Number: Defense Federal Acquisition Regulation Supplement (DFARS) Part 215 Negotiation; OMB Control Number 0704-0497.

Type of Collection: Revision of a currently approved collection.

Obligation to Respond: Required to obtain or retain benefits.

Affected Public: Businesses or other for-profit and not-for-profit institutions.

Number of Respondents: 263.

Responses per Respondent: 1.

Annual Responses: 263.

Average Burden Per Response: 4 hours.

Annual Burden Hours: 1,052.

Frequency: On Occasion.

Needs and Uses: DFARS 215.403-5 provides contractors with guidance for the submittal of forward pricing rate proposals, and includes a checklist for contractors to use in preparing their proposals. The checklist is submitted to DoD with the forward pricing rate proposal. The purpose of this information collection is to improve the efficiency of the negotiation process by ensuring the submission of thorough, accurate, and complete forward pricing rate proposals. If the contracting officer determines that a forward pricing rate proposal should be obtained pursuant to Federal Acquisition Regulation 42.1701, then contractors following the contract cost principles for commercial organizations in FAR subpart 31.2 will be required to submit a forward pricing rate proposal that complies with Federal Acquisition Regulation 15.408, Table 15-2, and DFARS 215.403-5 and 215.407-5-70. The forward pricing rate proposal adequacy checklist at Table 215.403-1 is used by the contracting officer and the contractor to ensure the proposal is complete. The completed forward pricing rate proposal adequacy checklist will be submitted to DoD with the forward pricing rate proposal.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: http://www.regulations.gov. Follow the instructions for submitting comments.

DoD Clearance Officer: Ms. Angela James. Requests for copies of the information collection proposal should be sent to Ms. James at whs.mc-alex.esd.mbx.dd-dod-information-collections@mail.mil.

Jennifer D. Johnson,
Regulatory Control Officer, Defense Acquisition Regulations System.

[FR Doc. 2020-26134 Filed 11-24-20; 8:45 am]

BILLING CODE 5001-06-P